DEPARTMENT OF AGRICULTURE

Submission for OMB Review; Comment Request

July 24, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Small Enterprise Chicken Study.

OMB Control Number: 0579-0260.

Summary of Collection: The Small Enterprise Chicken Study is an information collection by the Animal and Plant Health Inspection Service (APHIS). This study is designed to collect information on flocks with 1,000 to 19,999 chickens. In the past, APHIS poultry studies, conducted by National Animal Health Monitoring System (NAHMS) have focused on the commercial table-egg layer industry, backyard poultry, and live poultry markets. The objectives of the study are as follows: (1) To describe characteristics of operations with 1,000 to 19,999 chickens, including bird species on-hand, seasonal inventory, and marketing of free-range chickens or eggs, and organic, or other niche-market products; (2) describe movements of animals, people, waste products, vehicles, and equipment on and off operations, and estimate the distances associated with these movements; (3) examine biosecurity practices, including bird access to the outdoors. The information will be collected using NAHMS form 200.

Need and Use of the Information: The information from the study will be used to develop parameters for two disease simulation models: The North American Animal Disease Spread Model and the Multiscale Epidemiologic/Economic Simulation and Analysis Model. The information will also be used to develop background information on this segment of the poultry industry.

Description of Respondents: Farms.

Number of Respondents: 2,500.

Frequency of Responses: Reporting; On occasion.

Total Burden Hours: 1.250.

Ruth Brown,
Departmental Information Collection Clearance Officer.

[FR Doc. E7-14564 Filed 7-26-07; 8:45 am]

BILLING CODE 3410-34-P